COMMITTEE FOR PURCHASE FROM PEOPLE WHO ARE BLIND OR SEVERELY DISABLED

Procurement List; Proposed Additions and Deletions

AGENCY: Committee for Purchase From People Who Are Blind or Severely Disabled.

ACTION: Proposed additions to and deletions From Procurement List.

SUMMARY: The Committee is proposing to add to the Procurement List products and services to be furnished by nonprofit agencies employing persons who are blind or have other severe disabilities, and to delete services previously furnished by such agencies.

DATES: Comments must be received on or before: March 6, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, telephone: (703) 603-7740, fax: (703) 603-0655, or e-mail skennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSN: Can, Friction Top, 8110-00-178-8289, 8110-00-178-8290.

NPA: East Texas Lighthouse for the Blind, Tyler, Texas.

Contracting Activity: Defense Supply Center Philadelphia, Philadelphia, Pennsylvania.

Services

Service Type/Location: Base Supply Center, Portsmouth Naval Shipyard, Portsmouth, New Hampshire.

NPA: Central Association for the Blind & Visually Impaired, Utica, New York.

Contracting Activity: Portsmouth Naval Shipyard, Portsmouth, New Hampshire.

Service Type/Location: Custodial Services, Howard M. Metzenbaum United States Courthouse, 201 West Superior Avenue, Cleveland, Ohio.

NPA: VGS, Inc., Cleveland, Ohio.

Contracting Activity: GSA, PBS-5P, Chicago, Illinois.

Service Type/Location: Custodial Services, Naval Base Ventura County, Ventura, California.

NPA: PRIDE Industries, Inc., Roseville, California.

Contracting Activity: ROICC/Naval Base Ventura County, Point Mugu, California.

Service Type/Location: Janitorial/Custodial, Veterans Affairs Community Based Outpatient Clinic, 4440 Calle Real, Goleta, California.

NPA: Work Training Programs, Inc., Santa Barbara, California.

Contracting Activity: Veteran Integrated Service Network 22, Long Beach, California.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Disassembly of Recorders, U.S. Geological Survey, Hydrologic Instrumentation Facility, Stennis Space Center, Mississippi.

NPA: South Mississippi Regional Center, Long Beach, Mississippi.

Contracting Activity: Department of Interior, USGS, Reston, Virginia.

Service Type/Location: Janitorial/Custodial, U.S. Army Reserve Center, Hoyt Avenue, Binghamton, New York.

NPA: Sheltered Workshop for the Disabled, Inc., Binghamton, New York.

Contracting Activity: Department of the Army, Fort Drum, New York.

Service Type/Location: Rehabilitation of Recorder Covers, U.S. Geological Survey, Bay St. Louis, Mississippi.

NPA: South Mississippi Regional Center, Long Beach, Mississippi.

Contracting Activity: Department of Interior, USGS, Reston, Virginia.

G. John Heyer,
General Counsel.

[FR Doc. 05-2203 Filed 2-3-05; 8:45 am]

BILLING CODE 6353-01-P